DEPARTMENT OF ENERGY

Federal Energy Regulatory Commission

[Docket No. CP07-32-000]

Gulf South Pipeline Company, LP; Notice of Availability of the Draft Environmental Impact Statement for the Proposed Southeast Expansion Project

April 13, 2007.

The staff of the Federal Energy Regulatory Commission (FERC or Commission) has prepared a Draft Environmental Impact Statement (EIS) on the natural gas pipeline facilities proposed by Gulf South Pipeline Company, LP (Gulf South) in the above-referenced docket.

The Draft EIS was prepared to satisfy the requirements of the National Environmental Policy Act. The FERC staff concludes that the proposed Project, with the appropriate mitigation measures as recommended, would have limited adverse environmental impact.

The U.S. Fish and Wildlife Service (FWS), National Park Service (NPS), U.S. Environmental Protection Agency (EPA), and the U.S. Army Corps of Engineers (COE) are federal cooperating agencies for the development of this EIS. A federal cooperating agency has jurisdiction by law or special expertise with respect to any environmental impact involved with the proposal and is involved in the NEPA analysis.

The purpose of the proposed Project is to transport up to 1.7 billion cubic feet per day of natural gas from production fields in eastern Texas to markets in the Gulf coast, Midwestern, Northeastern and Southeastern regions of the United States.

The Draft EIS addresses the potential environmental impacts resulting from the construction and operation of the following facilities:

• Approximately 111 miles of 42-inch-diameter natural gas transmission pipeline extending easterly from Simpson County, Mississippi to Choctaw County, Alabama;

• Three new compressor stations, the Delhi, Harrisville, and Destin Compressor Stations, located in Richland County, Louisiana; Simpson County, Mississippi; and Choctaw County Alabama, respectively; and

• other ancillary facilities including five meter and regulator (M/R) facilities, eight mainline valves, 1 side valves, and two pig launcher and/or receiver facilities.

Comment Procedures and Public Meetings

Any person wishing to comment on the Draft EIS may do so. To ensure that your comments are timely and properly recorded so that they may be considered in the Final EIS, please carefully follow these instructions:

• Send an original and two copies of your letter to: Kimberly D. Bose, Secretary, Federal Energy Regulatory Commission, 888 First St., NE., Room 1A, Washington, DC 20426.

• Label one copy of your comments to the attention of Gas Branch 2, DG2E; and Reference Docket No. CP07-032-000 on the original and both copies

• Mail your comments so that they will be received in Washington, DC on or before May 29, 2007.

Please note that the Commission strongly encourages the electronic filing (eFiling) of comments. Instructions on how to “eFile” comments can be found on the Commission's Web site at http://www.ferc.gov under the “Documents and Filings” link.

In lieu of or in addition to sending written comments, we invite you to attend the public comment meetings the FERC will conduct in the project area to receive comments on the Draft EIS. All meetings will begin at 7 p.m. (CST), and are scheduled as follows:

Date and time | Location
Tuesday, May 8, 7 p.m | Mendenhall Civic Center, 1630-A Simpson Highway 149, Mendenhall, Mississippi 39114, 601-847-1212.
Tuesday, May 9, 7 p.m | Heidelberg Multi Purpose Bldg, 114 West Park Street, Heidelberg, Mississippi 39439, 601-787-3000.
Wednesday, May 10, 7 p.m | Butler Civic Center, 114 North Academy Avenue, Butler, Alabama 36904, 205-459-3795.

The public comment meetings will be posted on the FERC's calendar located at http://www.ferc.gov/EventCalendar/EventsList.aspx. Interested groups and individuals are encouraged to attend and present oral comments on the Draft EIS. Transcripts of the meetings will be prepared.

After the comments received are reviewed, any significant new issues are investigated, and modifications are made to the Draft EIS, a Final EIS will be published and distributed by the FERC staff. The Final EIS will contain the staff's responses to timely comments received on the Draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this Draft EIS. You must file your request to intervene as specified above.¹ You do not need intervenor status to have your comments considered.

¹ Interventions may also be filed electronically via the Internet in lieu of paper. See the previous discussion on filing comments electronically.

The Draft EIS has been placed in the public files of the FERC and is available for public inspection at: Federal Energy Regulatory Commission, Public Reference Room, 888 First Street NE., Room 2A, Washington, DC 20426, (202) 502-8371.

A limited number of copies of the Draft EIS are available from the Public Reference Room identified above. In addition, CD copies of the Draft EIS have been mailed to affected landowners; various federal, state, and local government agencies; elected officials; environmental and public interest groups; Native American tribes; local libraries and newspapers; intervenors; and other individuals that expressed an interest in the proposed Project. Hard-copies of the Draft EIS have also been mailed to those who requested that format during the scoping and comment periods for the proposed Project.

Additional information about the proposed Project is available from the Commission's Office of External Affairs, at 1-866-208-FERC or on the FERC Internet Web site (http://www.ferc.gov).

To access information via the FERC Web site click on the “eLibrary” link then click on “General Search” and enter the docket number excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202)502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E7-7565 Filed 4-19-07; 8:45 am]

BILLING CODE 6717-01-P